DEPARTMENT OF TRANSPORTATION

Federal Railroad Administration

[Docket No. FRA-2013-0002-N-27]

Proposed Agency Information Collection Activities; Comment Request

AGENCY: Federal Railroad Administration (FRA), United States Department of Transportation (USDOT).

ACTION: Notice.

SUMMARY: In accordance with the Paperwork Reduction Act of 1995 and its implementing regulations, the Federal Railroad Administration (FRA) hereby announces that it is seeking renewal of the following currently approved information collection activities. Before submitting the information collection requests (ICRs) below for clearance by the Office of Management and Budget (OMB), FRA is soliciting public comment on specific aspects of the activities identified below.

DATES: Comments must be received no later than February 21, 2014.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number _____.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Bridge Safety Standards.

OMB Control Number: 2130-0586.

Abstract: The collection of information is used by FRA to ensure that railroads/track owners meet Federal safety standards for bridge safety and comply with all the requirements stipulated under the Railroad Safety Improvement Act (RSIA) of 2008 and 49 CFR 237. In particular, the collection of information is used by FRA to confirm that railroads/track owners adopt and implement bridge management programs to properly inspect, maintain, modify, and repair all bridges that carry trains over them for which they are responsible. Railroads/track owners must conduct annual inspections of railroad bridges. Further, railroads must incorporate provisions for internal audit into their bridge management program and must conduct internal audits of bridge inspection reports. The internal audit information is used by railroads/track owners to verify that the inspection provisions of the bridge management program are being followed and to continually evaluate the effectiveness of their bridge management program and bridge inspection activities. FRA uses this information to ensure that railroads/track owners implement a safe and effective bridge management program and bridge inspection regime.

Form Number(s): N/A.

Affected Public: Businesses.

Respondent Universe: 693 railroads.

Frequency of Submission: On occasion.

Reporting Burden:

CFR Section | Respondent universe | Total annual responses | Average time per response | Total annual burden hours
237.3
Notifications to FRA of Assignment of Bridge Responsibility Signed Statement by Assignee Concerning Bridge Responsibility | 693 Railroads 693 Railroads | 15 notifications 15 signed statements | 90 minutes 30 minutes | 22.5 7.5
237.9
Waivers—Petitions | 693 Railroads | 12 petitions | 4 | 48
23731/33
Development/Adoption of Bridge Management Program | 693 Railroads | 693 plans | Varies | 20,100
237.57
Designation of Qualified Individuals | 693 Railroads | 200 designation | 30 minutes | 100
237.71
Determination of Bridge Load Capacities | 693 Railroads | 2,000 determinations | 8 | 16,000
237.73
Issuance of Instructions to Railroad Personnel by Track Owner | 693 Railroads | 2,000 instructions | 2 | 4,000
237.105
Special Bridge Inspections and Reports/Records | 693 Railroads | 7,500 insp. and reports/records | 12.50 hours | 93,750
Special Underwater Inspections | 693 Railroads | 50 insp. andReports/rcds | 40 hours | 2,000
237.107 and 237.109
Nationwide Annual Bridge Inspections—Reports | 693 Railroads | 18,000 insp. & reports | 4 hours | 72,000
Records | 693 Railroads | 18,000 records | 1 hour | 18,000
Report of Deficient Condition on a Bridge (New Requirement from NPRM) | 693 Railroads | 50 reports | 30 minutes | 25
237.111
Review of Bridge Inspection Reports by RR Bridge Engineers | 693 Railroads | 2,000 insp. rpt. reviews | 30 minutes | 1,000
Prescription of Bridge Insp. Procedure Modifications After Review | 693 Railroads | 200 insp. proc. modifications | 30 minutes | 100
237.131
Design of Bridge Modifications or Bridge Repairs | 693 Railroads | 1,250 designs | 16 hours | 20,000
Bridge Modification Repair Reviews/Supervisory Efforts | 693 Railroads | 1,250 br. mod. repair reviews | 1.50 hours | 1,875
Common Standard Designed by Railroad Bridge Engineer (New Requirement from NPRM) | 693 Railroads | 50 standards | 24 hours | 1,200
237.153
Audits of Inspections | 693 Railroads | 693 insp. audits | 80 hours/24 hours/6 hours | 5,470
237.155
Documents and Records | 693 Railroads | 5 systems | 80 hours | 400
Establishment of RR Monitoring and Info. Technology Security Systems for Electronic Recordkeeping
Employees Trained in System | 693 Railroads | 100 employees | 8 hours | 800

Estimated Total Annual Burden: 256,898 hours.

Status: Extension of a Currently Approved Collection.

Title: Locomotive Crashworthiness.

OMB Control Number: 2130-0564.

Abstract: In a final rule published on June 28, 2006, the Federal Railroad Administration (FRA) issued comprehensive standards for locomotive crashworthiness. These crashworthiness standards are intended to help protect locomotive cab occupants in the event of a locomotive collision. The collection of information is used by FRA ensure that locomotive manufacturers and railroads meet minimum performance standards and design load requirements for newly manufactured and re-manufactured locomotives in order to help protect locomotive cab occupants in the event that one of these covered locomotives collides with another locomotive, the rear of another train, a piece of on-track equipment, a shifted load on a freight car on an adjacent track, or a highway vehicle at a rail-highway grade crossing.

Form Number(s): N/A.

Affected Public: Businesses.

Respondent Universe: 685 railroads and 4 Locomotive Manufacturers.

Frequency of Submission: On occasion.

Reporting Burden:

CFR Section | Respondent universe | Total annual responses | Average time per response | Total annual burden hours
229.207—Petition for FRA Approval of New Locomotive Crashworthiness Standards | 685 Railroads + 4 Loco. Manufacturers | 2 petitions | 1,050 hours | 2,100
Petition for FRA Approval of Substantive Change to FRA-Approved Crashworthiness Design Standard | 685 Railroads + 4 Loco. Manufacturers | 1 petition | 1,050 hours | 1,050
Petition for FRA Approval of Non- Substantive Change to FRA-Approved Crashworthiness Design Standard | 685 Railroads + 4 Loco. Manufacturers | 1 petition | 400 hours | 400
229.209
Waivers—Petition for FRA Approval of Alternative Locomotive Crashworthiness Design Standard | 685 Railroads + 4 Loco. Manufacturers | 1 petition | 2,550 hours | 2,550
229.211
Comments on FRA Notice of Petitions Received by the Agency | 4 Loco. Makers/RR Associations/Labor Organizations/Public | 10 comments | 16 hours | 160
229.213
Locomotive Manufacturing Information: Retention of Required Information | 685 Railroads | 1,000 records or stickers or badge plates | 6 minutes | 100
229.215
Retention of Records—Original Designs | 4 Loco. Manufacturers | 24 loco. Record | 8 hours | 192
Retention of Records—Repairs and Modifications | 685 Railroads | 6 records | 4 hours | 24
Inspection of Records | 6 Loco. Manufacturers/Rebuilders | 10 records | 2 minutes | .33

Estimated Total Annual Burden: 6,544 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on December 13, 2013.
Rebecca Pennington,
Chief Financial Officer.

[FR Doc. 2013-30363 Filed 12-20-13; 8:45 am]

BILLING CODE 4910-06-P